FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012064-005.

Title: Hapag-Lloyd/NYK Mexico-Dominican Republic Slot Charter Agreement.

Parties: Hapag-Lloyd AG and Nippon Yusen Kaisha.

Filing Party: Wayne R. Rohde, Esq.; Cozen O'Connor; 1627 I Street, NW; Suite 1100; Washington, DC 20006.

Synopsis: The amendment deletes the U.S. East Coast from the geographic scope and deletes Hapag-Lloyd's GCS service from the agreement.

Agreement No.: 012233-002.

Title: CSCL/UASC/YMUK/CMA CGM/PIL Vessel Sharing and Slot Exchange Agreement—Asia and US/Canada West Coast Services.

Parties: China Shipping Container Lines Co., Ltd. and China Shipping Container Lines (Hong Kong) Co., Ltd. (acting as a single party); United Arab Shipping Company (S.A.G.); Yang Ming (UK) LTD.; CMA CGM S.A.; and Pacific International Lines (Pte) Ltd.

Filing Party: Patricia M. O'Neill; Blank & Rome LLP; 600 New Hampshire Ave NW., Washington DC, 20037.

Synopsis: The amendment adds two additional slot exchange arrangements in the agreement trade between China Shipping and Yang Ming, and between CMA and Yang Ming.

Agreement No.: 012314.

Title: COSCON/CSCL Slot Charter Agreement.

Parties: COSCO Container Lines Company, Limited; China Shipping Container Lines Co., Ltd and China Shipping Container Lines (Hong Kong) Co., Ltd. (acting as a single party).

Filing Party: Eric. C. Jeffrey, Esq.; Nixon Peabody LLP; 401 9th Street NW., Suite 900; Washington, DC 20004.

Synopsis: The agreement authorizes China Shipping to charter space to COSCON in the trade from France, Italy, Morocco, and Spain, on the one hand, to the U.S. East Coast, on the other hand.

By Order of the Federal Maritime Commission.
Dated: January 16, 2015.
Rachel E. Dickon,
Assistant Secretary.

[FR Doc. 2015-01033 Filed 1-21-15; 8:45 am]

BILLING CODE 6730-01-P